DEPARTMENT OF ENERGY

Notice of Public Scoping Meetings for the Hawai'i Interisland Renewable Energy Program: ’Wind Programmatic Environmental Impact Statement (DOE/EIS-0459)

AGENCY: Department of Energy (DOE).

ACTION: Notice of public scoping meetings and opportunity to comment.

SUMMARY: DOE will host four public meetings in the Hawaiian Islands to receive comments on the scope of the Hawai`i Interisland Renewable Energy Program: Wind Programmatic Environmental Impact Statement (hereinafter referred to as the Hawai`i Wind EIS or the EIS). The public scoping meetings will be conducted jointly with the State of Hawai`i Department of Business, Economic Development and Tourism (DBEDT), which is a co-lead agency with DOE in the preparation of the EIS. The EIS will assess the foreseeable environmental impacts that may arise from wind energy development under the Hawai`i Interisland Renewable Energy Program (HIREP) and the range of reasonable alternatives.

On December 14, 2010, DOE and DBEDT announced in the Federal Register (75 FR 77859) their intention to prepare the EIS and opened a public scoping period which will close on March 1, 2011.

During the scoping period, DOE and DBEDT invite the public to submit written comments by any of the means listed in the ADDRESSES section. Oral as well as written comments may also be provided at the public scoping meetings to be held as listed under SUPPLEMENTARY INFORMATION.

DATES: DOE and DBEDT invite comments on the proposed scope of the EIS from all interested parties. The public scoping period began on December 14, 2010, and will close on March 1, 2011. Comments on the scope of the EIS should be submitted by March 1, 2011. Comments e-mailed or postmarked after that date will be considered to the extent practicable. DOE and DBEDT also invite members of the public to participate in public scoping meetings. Requests to speak at any of the public scoping meetings should be submitted to Allen Kam as indicated in the ADDRESSES section on or before January 28, 2011. Requests to speak also may be made at the scoping meetings; however, requests received by January 28, 2011, will be given priority in the speaking order. For interested parties wishing to speak with a DOE representative, see the FOR FURTHER INFORMATION CONTACT section of this announcement.

ADDRESSES: Requests to speak at the public scoping meetings and written comments on the proposed scope of the EIS may be submitted by any of the following means:

• By e-mail to comments@hirep-wind.com.

• By submitting electronic comments on the EIS web page at http://www.hirep-wind.com.

• By facsimile (fax) to 808-586-2536, Attention Allen G. Kam.

• By mail to Allen G. Kam, Esq., AICP, HIREP EIS Manager, State of Hawai’i, Department of Business, Economic Development and Tourism, Renewable Energy Branch, State Energy Office, P.O. Box 2359, Honolulu, HI 96804.

FOR FURTHER INFORMATION CONTACT: For information on DOE's proposed action, contact Anthony J. Como, DOE NEPA Document Manager, Office of Electricity Delivery and Energy Reliability (OE-20), U.S. Department of Energy, 1000 Independence Avenue, SW., Washington, DC 20585; or at 202-586-5935 or anthony.como@hq.doe.gov.

For general information about the DOE National Environmental Policy Act (NEPA) process, contact Carol Borgstrom, Director, Office of NEPA Policy and Compliance (GC-54), U.S. Department of Energy, 1000 Independence Avenue, SW., Washington, DC 20585; or at 800-472-2756 or askNEPA@hq.doe.gov.

For information on the Hawai`i Interisland Renewable Energy Program, contact Mr. Allen G. Kam, Esq., AICP, HIREP EIS Manager, State of Hawai'i, Department of Business, Economic Development and Tourism, Renewable Energy Branch, State Energy Office, P.O. Box 2359, Honolulu, HI 96804; or at 808-587-9023 or hirep@dbedt.hawaii.gov.

SUPPLEMENTARY INFORMATION: On December 14, 2010, DOE published a notice in the Federal Register (75 FR 77859) announcing its intention to prepare the Hawai'i Wind EIS jointly with the State of Hawai'i and opening a scoping period that will close on March 1, 2011. The EIS will be prepared pursuant to NEPA, as amended (42 U.S.C. 4321-4347), the Council on Environmental Quality NEPA regulations (40 CFR parts 1500-1508), the DOE NEPA implementing procedures (10 CFR part 1021), and the Hawai`i Environmental Policy Act (Hawai`i Revised Statutes (HRS) chapter 343). The EIS will assess the potential environmental impacts from the development of up to 400 megawatts of wind generation facilities on one or more of the Maui County islands of Maui, Lāna`i, and/or Moloka'i, the transmission of wind-generated energy to O`ahu via submarine transmission cables and the required improvements to the existing electric transmission infrastructure on O'ahu. In the December 14, 2010 notice, DOE and DBEDT also indicated that they would hold public scoping meetings and announce the dates and locations of them in a subsequent Federal Register notice.

DOE and DBEDT now announce that they will jointly host the following public scoping meetings:

• February 1, 2011—McKinley High School Cafeteria, 1039 South King Street, Honolulu, HI 96814, from 5:30 p.m. to 9 p.m.

• February 2, 2011—Pomaika'i Elementary Cafeteria, 4650 South Kamehameha Avenue, Kahului, HI 96732, from 5:30 p.m. to 9 p.m.

• February 3, 2011—Mitchell Pauole Community Center, 90 Ainoa Street, Kaunakakai, Moloka’i, HI 96748, from 5:30 p.m. to 9 p.m.

• February 5, 2011—Lāna‘i High & Elementary School Cafeteria, 555 Fraser Avenue, Lāna`i City, HI 96763, from 9:30 a.m. to 3 p.m.

Each scoping meeting will be conducted in two parts: An informal “workshop” discussion period that will not be recorded, and a formal commenting session that will be transcribed by a court stenographer. Meeting participants may also have their comments entered into the record during the informal portion of the meetings, on request. Those who do not arrange in advance to speak may register at a meeting (preferably at the beginning of the meeting) and may speak after previously scheduled speakers. The presiding officer will establish procedures to ensure that everyone who wishes to speak has an opportunity to do so. Depending on the number of speakers, the presiding officer may limit all speakers to a set amount of time initially and provide additional opportunities to speak as time permits. Speakers may also provide written materials to supplement their presentations, and such additional information may be submitted in writing by the date listed in the DATES section. Both oral and written comments will be considered and given equal weight by DOE and DBEDT.

The formal commenting session will begin with an overview of the proposed Wind Phase of the Hawai`i Interisland Renewable Energy Program and a description of the State and Federal environmental review processes. The presiding officer will establish the order of speakers and provide any additional procedures necessary to conduct the formal commenting session. Speakers may be asked questions to help ensure that DOE and DBEDT fully understand all suggestions and comments.

Issued in Washington, DC, on January 7, 2011.
Patricia A. Hoffman,
Assistant Secretary, Office of Electricity Delivery and Energy Reliability.

[FR Doc. 2011-479 Filed 1-11-11; 8:45 am]

BILLING CODE 6450-01-P